DEPARTMENT OF HOMELAND SECURITY

Coast Guard

[Docket No. USCG-2013-0864]

Certificate of Alternative Compliance for the M/V LEIGH ANN MORAN, 1261986

AGENCY: Coast Guard, DHS.

ACTION: Notice.

SUMMARY: The Coast Guard announces that a Certificate of Alternative Compliance was issued for the Uninspected Towing Vessel LEIGH ANN MORAN as required by statute.

DATES: The Certificate of Alternative Compliance was issued on September 28, 2015.

ADDRESSES: The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2011-0508 in the “Keyword” box, and then clicking “Search.”

FOR FURTHER INFORMATION CONTACT: If you have questions on this notice, call LT Steven Melvin, District Nine, Prevention Branch, U.S. Coast Guard, telephone 216-902-6343. If you have questions on viewing or submitting material to the docket, call Renee V. Wright, Program Manager, Docket Operations, telephone 202-366-9826.

SUPPLEMENTARY INFORMATION:

Background and Purpose

A Certificate of Alternative Compliance, as allowed for under 33 U.S.C. 1605 (c) and 33 CFR 81.18, has been issued for the M/V LEIGH ANN MORAN. The vessel's primary purpose is a to push a barge that will operate on mainly in the Gulf of Mexico. The unique design of the vessel did not lend itself to full compliance with Annex I of the Inland Rules Act.

The Commandant, U.S. Coast Guard, certifies that full compliance with the Inland Rules Act would interfere with the special functions/intent of the vessel and would not significantly enhance the safety of the vessel's operation. Placing the sidelights in the required position would interfere with the standard tug operations of the vessel.

The Certificate of Alternative Compliance authorizes the M/V LEIGH ANN MORAN to deviate from the requirements set forth in Annex I of the Inland Rules Act, and install the sidelights as shown on the JENSEN Naval Architects and Marine Engineers “NAV MAST STRUCT & LIGHT ARGMT” Drawing No. 170-01, Rev A, dated October 30, 2014.

This notice is issued under authority of 33 U.S.C. 1605(c), and 33 CFR 81.18.

Dated: October 20, 2015.
P.D.J. Arnett,
Captain, U.S. Coast Guard, Chief, Prevention Division, By Direction.

[FR Doc. 2015-28480 Filed 11-6-15; 8:45 am]

BILLING CODE 9110-04-P